FEDERAL ELECTION COMMISSION

Sunshine Act Meeting

Previously Announced Date & Time: Thursday, September 14, 2000, 10 a.m., Meeting open to the public.

The following item was added to the agenda: (continued from open meeting of September 12, 2000)

Draft Statements of Reasons—Petitions to Deny Certification of Public Funds to Patrick J. Buchanan and Ezola Foster (LRAs#598/599).

Previously Announced Date & Time: Thursday, September 21, 2000, 10 a.m., meeting open to the public.

The following item was added to the agenda: (held over from open meeting of September 14, 2000)

Dole for President—Statement of Reasons (LRA#467)

Dole/Kemp '96, Inc.—Statement of Reasons (LRA#506)

Date & Time: Tuesday, September 26, 2000 at 10 a.m.

Place: 999 Street, NW., Washington, DC

Status: This meeting will be closed to the public.

Items To Be Discussed:

Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

Date & Time: Thursday, September 28, 2000 at 10 a.m.

Place: 999 Street, NW., Washington, DC (Ninth Floor).

Status: This meeting will be open to the public.

Items To Be Discussed:

Correction and Approval of Minutes.

Advisory Opinion 2000-23: New York State Democratic Committee by counsel, Joseph E. Sandler and Neil P. Reiff.

Advisory Opinion 2000-26: Joel Deckard, Reform Party candidates, U.S. Senate, Florida.

Status of Regulations: Soft Money Rulemaking.

Administrative Matters.

Person to Contact for Information: Mr. Ron Harris, Press Officer, Telephone (202) 694-1220.

Mary W. Dove,
Acting Secretary of the Commission.

[FR Doc. 00-24325 Filed 9-18-00; 3:26 pm]

BILLING CODE 6715-01-M